GENERAL SERVICES ADMINISTRATION

[Notice-ME-2024-01; Docket No. 2024-0002; Sequence No. 16]

Public Review and Comment of the Mid-Term Self-Assessment Report of the United States' 5th Open Government National Action Plan; Request for Public Comment

AGENCY: Office of Government-wide Policy; General Services Administration, (GSA).

ACTION: Notice; request for public comment.

SUMMARY: This notice informs the public of the opportunity to provide input on the self-assessment report created in support of the United States' participation in the Open Government Partnership (OGP). This input will be considered as GSA Office of Government-wide Policy finalizes the self-assessment prior to submission to the OGP. The United States has been a committed member of the Open Government Partnership since its inception, actively participating in the global effort to promote transparent, participative, and accountable governance. As part of this ongoing commitment, the United States is in the process of implementing its 5th Open Government National Action Plan (NAP 5), which outlines 36 commitments to further advance open government principles domestically and internationally. In accordance with OGP recommendations, the U.S. is conducting a mid-term self-assessment of the current NAP 5. This assessment serves as an essential tool for both self-reflection and planning, enabling the identification of achievements, challenges, and areas for improvement.

DATES: Responses to this request for comment should be received by Monday, June 10, 2024.

ADDRESSES: Submit comments in response to Notice “Docket 2024-0002” by http://www.regulations.gov. Submit comments via the Federal eRulemaking portal by searching for “Docket 2024-0002.” Select the link “Comment Now” that corresponds with “Docket 2024-0002.” Follow the instructions provided at the screen. Please include your name, organization name (if any), and “Docket 2024-0002” on your attached document. All received public comments are subject to the Freedom of Information Act and will be posted in their entirety at regulations.gov, including any personal and business confidential information provided. Do not include any information you would not like to be made publicly available.

Instructions for Submission: Please follow the guidelines in the attached public commenting policy. GSA has provided some key topics on which public insights would be most valuable (see Supplementary Information). You may respond to some or all of these topics, and additional feedback beyond these topics is also welcome.

FOR FURTHER INFORMATION CONTACT: Daniel York, GSA Open Government Secretariat, Office of Government-wide Policy, by email at opengovernmentsecretariat@gsa.gov or by phone at 202-357-9624.

SUPPLEMENTARY INFORMATION: The mid-term self-assessment report is a critical component of the OGP's iterative process, designed to foster continuous learning and development within member countries. To ensure a comprehensive and inclusive review of the work done on NAP 5 to date, GSA invites public feedback on the mid-term self-assessment.

GSA seeks to collect feedback from the public on the following aspects of the 5th Open Government NAP mid-term self-assessment report:

• Assessment Clarity and Comprehensiveness: Feedback on the clarity and thoroughness of the report itself in presenting the progress and challenges encountered during both the co-creation process and the implementation process.

• Insights and Learning: Observations on the lessons and insights derived from the self-assessment process, including any areas that may benefit from deeper analysis.

• Engagement and Inclusivity: Views of the effectiveness of stakeholder engagement efforts (including suggestions for enhancing inclusivity) during the initial co-creation and the implementation processes since the GSA Open Government Secretariat was stood up in the summer of 2023.

• Utility and Application: Recommendations on how the Lessons and Insights of the report can be better used to inform the remaining implementation phase and future Open Government Action Plans.

Resources

Open Government Partnership (OGP) Independent Review Mechanism (IRM) Self-Assessment Guidance at https://www.opengovpartnership.org/wp-content/uploads/2001/01/OGP_self_assessment_cal%20FINAL.pdf.

Krystal J. Brumfield,
Associate Administrator, Office of Government-wide Policy, General Services Administration.

[FR Doc. 2024-07900 Filed 4-11-24; 4:15 pm]

BILLING CODE 6820-UA-P